DEPARTMENT OF HEALTH AND HUMAN SERVICES

Food and Drug Administration

21 CFR Part 184

[Docket No. 99P-5332]

Substances Affirmed as Generally Recognized as Safe: Menhaden Oil; Correction

AGENCY: Food and Drug Administration, HHS.

ACTION: Proposed rule; correction.

SUMMARY: The Food and Drug Administration (FDA) is correcting a proposed rule that appeared in the Federal Register of February 26, 2002 (67 FR 8744). The document proposes to amend the regulation on menhaden oil which has been affirmed as generally recognized as safe as a direct human food ingredient with specific limitations. The document was published with some errors in the FOR FURTHER INFORMATION CONTACT section. This document corrects those errors.

FOR FURTHER INFORMATION CONTACT: Andrew Zajac, Center for Food Safety and Applied Nutrition (HFS-265), Food and Drug Administration, 5100 Paint Branch Pkwy., College Park, MD 20740-3835, 202-418-3095.

SUPPLEMENTARY INFORMATION: In the FR Doc. 02-4327, appearing in the Federal Register of Tuesday, February 26, 2002, the following correction is made:

1. On page 8744, in the third column, FOR FURTHER INFORMATION CONTACT section is corrected to read: “Andrew Zajac, Center for Food Safety and Applied Nutrition (HFS-265), Food and Drug Administration, 5100 Paint Branch Pkwy., College Park, MD 20740-3835, 202-418-3095.”

Dated: March 29, 2002.
Leslye M. Fraser,
Acting Director, Regulations and Policy, Center for Food Safety and Applied Nutrition.

[FR Doc. 02-9363 Filed 4-16-02; 8:45 am]

BILLING CODE 4160-01-S